DEPARTMENT OF TRANSPORTATION

Coast Guard

33 CFR Part 117

[CGD08-02-013]

Drawbridge Operating Regulation; Bonfouca Bayou, LA

AGENCY: Coast Guard, DOT.

ACTION: Notice of temporary deviation from regulations.

SUMMARY: The Commander, Eighth Coast Guard District has issued a temporary deviation from the regulation in 33 CFR 117.433 governing the operation of the State Route 433 swing span drawbridge across Bonfouca Bayou, mile 7.0, at Slidell, St. Tammany Parish, Louisiana. This deviation allows the draw of the State Route 433 swing span drawbridge to remain closed to navigation from 8 a.m. until noon on June 12, 2002. This temporary deviation will allow for installation of new electrical parts for continued operation of the draw span of the bridge.

DATES: This deviation is effective from 8 a.m. until noon on Wednesday, June 12, 2002.

ADDRESSES: Unless otherwise indicated, documents referred to in this notice are available for inspection or copying at the office of the Eighth Coast Guard District, Bridge Administration Branch, Commander (obc), 501 Magazine Street, New Orleans, Louisiana, 70130-3396. The Bridge Administration Branch maintains the public docket for this temporary deviation.

FOR FURTHER INFORMATION CONTACT: Mr. David Frank, Bridge Administration Branch, at the address given above or telephone (504) 589-2965.

SUPPLEMENTARY INFORMATION: The SR 433 swing span drawbridge across Bonfouca Bayou, mile 7.0, at Slidell, St. Tammany Parish, Louisiana, has a vertical clearance in the closed-to-navigation position of 3.5 feet above mean high water and 6.7 feet above mean low water at the pivot pier. The vertical clearance at the rest pier is 8.2 feet above mean high water and 11.4 feet above mean low water in the closed-to-navigation position. The bridge provides unlimited vertical clearance in the open-to-navigation position. Navigation on the waterway consists of tugs with tows, fishing vessels, sailing vessels, and other recreational craft.

Presently, the draw operates as follows: The draw need not open for passage of vessels from 7 a.m. to 8 a.m. and from 1:45 p.m. to 2:45 p.m., Monday through Friday except Federal Holidays. The draw need open only on the hour and half-hour from 6 a.m. to 7 a.m. and from 3 p.m. to 6 p.m., Monday through Friday except federal holidays. The draw shall open on signal from 9 p.m. to 5 a.m., if at least 4 hours notice is given to the Louisiana Department of Transportation and Development Security Service at (540) 375-0100. At all other times the draw shall open on signal.

The Louisiana Department of Transportation and Development requested a temporary deviation for the operation of the drawbridge to accommodate maintenance work. The work involves installation of new electrical parts. This work is essential for continued operation of the draw span of the bridge.

This deviation allows the draw of the State Route 433 swing span drawbridge to remain closed to navigation from 8 a.m. until noon on Wednesday, June 12, 2002.

Dated: May 24, 2002.
D.F. Ryan,
Captain. U.S.C.G., Commander, Eighth Coast Guard District, Acting.

[FR Doc. 02-13961 Filed 6-3-02; 8:45 am]

BILLING CODE 4910-15-U